DEPARTMENT OF TRANSPORTATION

Pipeline and Hazardous Materials Safety Administration

[Docket No. RSPA-04-19857]

Pipeline Safety: Public Meetings on Operator Qualifications

AGENCY: Pipeline and Hazardous Materials Safety Administration (PHMSA), U.S. Department of Transportation (DOT).

ACTION: Notice of meeting.

SUMMARY: This notice announces a public meeting on operator qualification programs. PHMSA is preparing a Report to Congress on the status and results of programs to ensure the qualifications of individuals performing safety tasks on pipelines. The American Society of Mechanical Engineers (ASME) has almost completed developing a consensus standard qualifying individuals performing safety tasks on pipelines. The meeting provides an opportunity to discuss progress on operator qualification programs to help PHMSA prepare the Report to Congress and the potential the ASME standard offers for strengthening operator qualification programs.

DATES: The meeting will take place on December 15, 2005, from 8:30 a.m. to 5 p.m.

ADDRESSES: The meeting will be held at the L'Enfant Plaza Hotel in Washington, DC, 480 L'Enfant Plaza, SW., Washington, DC 20024. The phone number for reservations at the hotel is 202-484-1000.

FOR FURTHER INFORMATION CONTACT: For more information about the subject matter of this meeting contact Barbara Betsock at (202) 366-4361 or Barbara.Betsock@dot.gov. For information about the logistics of this meeting contact: William Fuentevilla at (202) 366-6199, William.Fuentevilla@dot.gov.

SUPPLEMENTARY INFORMATION:

Meeting Details

PHMSA will post any additional information or changes on its Web page (http://ops.dot.gov) 15 days prior to the meeting date.

Members of the public may attend the meetings and may make short statements on the topics under discussion. Anyone wishing to make an oral statement should notify Mr. Fuentevilla, before November 21, of the topic and the time needed for the presentation. The presiding officer at each meeting may deny any request to present an oral statement and may limit the time of any presentation.

You may file written comments by mail or deliver them to the Dockets Facility, U.S. Department of Transportation, Room PL-401, 400 Seventh Street, SW., Washington, DC 20590-0001. The Dockets Facility is open from 9 a.m. to 5 p.m., Monday through Friday, except Federal holidays. You also may file written comments to the docket electronically by logging onto the following Internet Web address: http://dms.dot.gov. Click on “Help & Information” for instructions on how to file a document electronically. All written comments should reference docket number RSPA-04-19857. Anyone who would like confirmation of mailed comments must include a self-addressed stamped postcard.

Privacy Act Statement

Anyone may search the electronic form of all comments received for any of our dockets. You may review DOT's complete Privacy Act Statement in the Federal Register published on April 11, 2000 (Volume 65, Number 70; Pages 19477-78) or you may visit http://dms.dot.gov.

Information on Services for Individuals With Disabilities

For information on facilities or services for individuals with disabilities, or to request special support at the meeting, please contact William Fuentevilla at (202) 366-6199 by November 21, 2005.

Background

Pipeline safety regulations issued in 1999 require operators to have programs to ensure the qualifications of individuals performing safety tasks on pipelines. The regulations address operation and maintenance tasks and the ability of individuals to react to abnormal operating conditions to protect life and property. The Pipeline Safety Improvement Act of 2002 amended the pipeline safety law by adding section 49 U.S.C 60131. Section 60131 provides standards and criteria for operator qualification programs, directs PHMSA to ensure their inclusion in programs, and directs PHMSA to report to Congress on the status and results of operator qualification programs. In a final rule published in the Federal Register on March 3, 2005, PHMSA changed the operator qualification regulations to conform to section 60131. Among the changes was the required inclusion of training “as appropriate.” (70 FR 10332.)

Because of the differences between the performance-based operator qualification regulations and the standards and criteria in section 60131, PHMSA developed protocols and “Frequently Asked Questions.” PHMSA and State inspectors use these when auditing operator qualification programs to find out the extent of compliance with the regulations. PHMSA and State inspectors are completing their first audits and collecting information on those audits for the Report to Congress.

The report on the status and results of the operator qualification programs is due December 17, 2006. PHMSA discussed a proposed outline for this report and the early information about the audits at a meeting on operator qualifications on December 17, 2004. You can read the transcript of that meeting in the docket, RSPA-04-19857, at http://dms.dot.gov/. While PHMSA continues to gather data on compliance audits for the report, we believe that we should also include in the report information about safety improvements that go beyond the regulations.

The pipeline industry and PHMSA recognized soon after the protocols were developed that a national consensus standard could provide greater certainty that operator qualification programs are high quality. A public meeting in Houston in 2003 produced a list of 13 areas in which there were perceived gaps between operator qualification programs that conform to the regulations and “ideal” programs. The pipeline industry approached ASME International about developing a consensus standard. The result was the B31Q Project Team on Qualification of Pipeline Operators with members drawn from both the regulated pipeline community and the regulators. The ASME committee voted to approve the consensus standard developed and to present it for a 60-day public comment period.

PHMSA believes the considerable work done to qualify pipeline personnel has resulted in improved safety by producing a workforce better able to perform safety tasks on pipelines. PHMSA believes that much of the work has exceeded the requirements of the current regulations. PHMSA also believes the B31Q consensus standard offers an opportunity to further strengthen operator qualification programs. The two purposes of this public meeting are to gather information about improvements in operator qualification programs for the Report to Congress and to identify how we can best use B31Q to strengthen the programs.

Preliminary Agenda

The agenda includes discussion of the following issues:

• Why do we have more confidence today in the qualifications of pipeline personnel?

• What are the primary contributions made during the past four years in improving safety through better qualification programs for pipeline personnel? To what extent have these exceeded regulatory compliance?

• What is the best way to use the B31Q standard to improve programs?

• Are there any elements of the B31Q standard that PHMSA should incorporate into the regulations? If so, which ones would be the best to incorporate?

• Are there any aspects of operator qualification that require greater flexibility to avoid cost impacts with minimal safety benefit?

• Can operators develop performance metrics that could assure equivalent safety through a more flexible performance-based approach?

• How do we continue to improve operator qualification programs without the uncertainty of continual change?

• Are protocols and “Frequently Asked Questions” the best way to provide necessary prescription, clarity, and consistency to performance regulations?

• When is training appropriate?

• How does an operator provide enough objectivity in evaluating an employee's knowledge and skills?

• Should the regulations go beyond operation and maintenance and include additional tasks that affect the safety and integrity of the pipeline as covered tasks?

• How do we best foster the portability of qualifications?

• Should emergencies such as Katrina trigger exceptions?

• Would mechanisms for operators to share success stories about operator qualification benefit overall safety?

Issued in Washington, DC on October 24, 2005.
Stacey L. Gerard,
Associate Administrator for Pipeline Safety.

[FR Doc. 05-21499 Filed 10-27-05; 8:45 am]

BILLING CODE 4910-60-P